FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 9, 2002.

A. Federal Reserve Bank of Minneapolis (Julie Stackhouse, Vice President) 90 Hennepin Avenue, Minneapolis, Minnesota 55480-0291:

1. Eugene Weinreis, Golva, North Dakota and Brian and Kimera Robertson, Missoula, Montana; to acquire control of Community First Bancorp Inc., Glendive, Montana, and thereby indirectly acquire control of Community First Bank of Glendive, Glendive, Montana.

2. Douglas H. Lewis, II, Duluth, Minnesota; to acquire control of the North Shore Financial Corporation, Duluth, Minnesota, and thereby indirectly to acquire control of North Shore Bank of Commerce, Duluth, Minnesota.

B. Federal Reserve Bank of Kansas City (Susan Zubradt, Assistant Vice President) 925 Grand Avenue, Kansas City, Missouri 64198-0001:

1. Bruce L. Bachman and Matthew C. Bachman, both of Centralia, Kansas; to acquire control of First Centralia Bancshares, Inc., Centralia, Kansas, and thereby indirectly acquire control of The First National Bank of Centralia, Centralia, Kansas; Onaga Bancshares, Inc., Merriam, Kansas, and thereby indirectly acquire control of First National Bank of Onaga, Onaga, Kansas; and Century Capital Financial, Inc., Kilgore, Texas, and thereby indirectly acquire control of Century Capital Financial, Inc., Wilmington, Delaware, and City National Bank, Kilgore, Texas.

Board of Governors of the Federal Reserve System, June 19, 2002.
Robert deV. Frierson,
Deputy Secretary of the Board.

[FR Doc. 02-15933 Filed 6-24-02; 8:45 am]

BILLING CODE 6210-01-S